DEPARTMENT OF HEALTH AND HUMAN SERVICES

National Institutes of Health

National Center for Research Resources; Amended Notice of Meeting

Notice is hereby given of a change in the meeting of the General Clinical Research Centers Review Committee, February 12, 2002, 8 a.m. to February 14, 2002, 6 p.m., Holiday Inn—Chevy Chase, 5520 Wisconsin Avenue, Chevy Chase, MD 20815, which was published in the Federal Register on January 3, 2002, 67 FR 336-337.

The meeting has been changed to Feb. 12-13, 2002; the location remains the same. The meeting is partially closed to the public.

Dated: January 25, 2002.
LaVerne Y. Stringfield,
Director, Office of Federal Advisory Committee Policy.

[FR Doc. 02-2383 Filed 1-30-02; 8:45 am]

BILLING CODE 4140-01-M